DEPARTMENT OF THE INTERIOR

Bureau of Land Management

[LLNV952000 L14400000.BJ0000.LXSSF2210000.241A; MO #4500140815 TAS: 20X]

Filing of Plats of Survey; NV

AGENCY: Bureau of Land Management, Interior.

ACTION: Notice.

SUMMARY: The purpose of this notice is to inform the public and interested State and local government officials of the filing of Plats of Survey in Nevada.

DATES: Filing is applicable at 10:00 a.m. on the date indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada on August 27, 2019:

The plat, in one sheet, representing the dependent resurvey of a portion of the subdivisional lines and a portion of the subdivision-of-section line of section 34, the subdivision of sections 27 and 28, and a metes-and-bounds survey of a portion of the southwesterly line of the Section 368 West-Wide Energy Corridor 224-225, in section 27 and through section 34, Township 20 South, Range 54 East, Mount Diablo Meridian, Nevada, under Group No. 979, was accepted August 23, 2019.

This survey was executed to meet certain administrative needs of the Bureau of Land Management.

The survey listed above, is now the basic record for describing the lands for all authorized purposes. This record has been placed in the open files in the BLM Nevada State Office and is available to the public as a matter of information.

Dated: November 14, 2019.
Michael O. Harmening,
Chief Cadastral Surveyor for Nevada.

[FR Doc. 2019-25438 Filed 11-22-19; 8:45 am]

BILLING CODE 4310-HC-P